DEPARTMENT OF THE INTERIOR

National Park Service

[NPS-WASO-NAGPRA-17620; PPWOCRADN0-PCU00RP14.R50000]

Notice of Inventory Completion for Native American Human Remains and Associated Funerary Objects in the Control of the U.S. Department of the Interior, National Park Service, Gulf Islands National Seashore, Gulf Breeze, FL; Correction

AGENCY: National Park Service, Interior.

ACTION: Notice; correction.

SUMMARY: The U.S. Department of the Interior, National Park Service, Gulf Islands National Seashore has corrected an inventory of human remains and associated funerary objects, published in a Notice of Inventory Completion in the Federal Register on June 18, 2001. This notice corrects the minimum number of individuals and number of associated funerary objects. Lineal descendants or representatives of any Indian tribe or Native Hawaiian organization not identified in this notice that wish to request transfer of control of these human remains and associated funerary objects should submit a written request to Gulf Islands National Seashore. If no additional requestors come forward, transfer of control of the human remains and associated funerary objects to the lineal descendants, Indian tribes, or Native Hawaiian organizations stated in this notice may proceed.

DATES: Lineal descendants or representatives of any Indian tribe or Native Hawaiian organization not identified in this notice that wish to request transfer of control of these human remains and associated funerary objects should submit a written request with information in support of the request to Gulf Islands National Seashore at the address in this notice by May 1, 2015.

ADDRESSES: Daniel R. Brown, Superintendent, Gulf Islands National Seashore, 1801 Gulf Breeze Parkway, Gulf Breeze, FL 32563, telephone (850) 934-2600, email daniel_r_brown@nps.gov.

SUPPLEMENTARY INFORMATION: Notice is here given in accordance with the Native American Graves Protection and Repatriation Act (NAGPRA), 25 U.S.C. 3003, of the correction of an inventory of human remains and associated funerary objects under the control of the U.S. Department of the Interior, National Park Service, Gulf Islands National Seashore, Gulf Breeze, FL. The human remains and associated funerary objects were removed from Naval Live Oaks Reservation, Santa Rosa County, FL.

This notice is published as part of the National Park Service's administrative responsibilities under NAGPRA, 25 U.S.C. 3003(d)(3). The determinations in this notice are the sole responsibility of the Superintendent, Gulf Islands National Seashore.

This notice corrects the minimum number of individuals and number of associated funerary objects published in a Notice of Inventory Completion in the Federal Register (66 FR 32841-32842, June 18, 2001). Re-examination of remains revealed fewer individuals than published. Additional funerary objects were also located and identified during tribal consultation. Transfer of control of the items in this correction notice has not occurred.

Correction

In the Federal Register (66 FR 32841-32842, June 18, 2001), paragraph four, sentence one is corrected by substituting the following sentence:

Between 1964-1965, human remains representing five individuals were recovered during excavations at the Naval Live Oaks Reservation Cemetery site.

In the Federal Register (66 FR 32841-32842, June 18, 2001), paragraph four, sentence three is corrected by substituting the following sentence:

The 84 associated funerary objects are 1 copper disc fragment, 1 iron fragment, 1 flint chip, 2 Mississippi Plain vessel fragments, 1 untyped vessel fragment, 64 Pensacola Incised vessel fragments, and 14 Moundville Incised vessel fragments.

In the Federal Register (66 FR 32841-32842, June 18, 2001), paragraph six, sentences one and two are corrected by substituting the following sentences:

Based on the above-mentioned information, the superintendent of Gulf Islands National Seashore has determined that, pursuant to 43 CFR 10.2 (d)(1), the human remains listed above represent the physical remains of five individuals of Native American ancestry. The superintendent of Gulf Islands National Seashore also has determined that, pursuant to 43 CFR 10.2 (d)(2), the 84 objects listed above are reasonably believed to have been placed with or near individual human remains at the time of death or later as part of the death rite or ceremony.

Additional Requestors and Disposition

Lineal descendants or representatives of any Indian tribe or Native Hawaiian organization not identified in this notice that wish to request transfer of control of these human remains and associated funerary objects should submit a written request with information in support of the request to Daniel R. Brown, Superintendent, Gulf Islands National Seashore, 1801 Gulf Breeze Parkway, Gulf Breeze, FL 32563, telephone (850) 934-2600, email daniel_r_brown@nps.gov, by May 1, 2015. After that date, if no additional requestors have come forward, transfer of control of the human remains and associated funerary objects to the Alabama-Quassarte Tribal Town; Jena Band of Choctaw Indians; Kialegee Tribal Town; Miccosukee Tribe of Indians; Mississippi Band of Choctaw Indians; Poarch Band of Creeks (previously listed as the Poarch Band of Creek Indians of Alabama); Seminole Tribe of Florida (previously listed as the Seminole Tribe of Florida (Dania, Big Cypress, Brighton, Hollywood & Tampa Reservations)); The Choctaw Nation of Oklahoma; The Muscogee (Creek) Nation; The Seminole Nation of Oklahoma; Thlopthlocco Tribal Town; and Tunica-Biloxi Indian Tribe may proceed.

Gulf Islands National Seashore is responsible for notifying the Absentee-Shawnee Tribe of Indians of Oklahoma; Alabama-Coushatta Tribe of Texas (previously listed as the Alabama-Coushatta Tribes of Texas); Alabama-Quassarte Tribal Town; Cherokee Nation; Chitimacha Tribe of Louisiana; Eastern Band of Cherokee Indians; Eastern Shawnee Tribe of Oklahoma; Jena Band of Choctaw Indians; Kialegee Tribal Town; Miccosukee Tribe of Indians; Mississippi Band of Choctaw Indians; Poarch Band of Creeks (previously listed as the Poarch Band of Creek Indians of Alabama); Seminole Tribe of Florida (previously listed as the Seminole Tribe of Florida (Dania, Big Cypress, Brighton, Hollywood & Tampa Reservations)); Shawnee Tribe; The Chickasaw Nation; The Choctaw Nation of Oklahoma; The Muscogee (Creek) Nation; The Seminole Nation of Oklahoma; Thlopthlocco Tribal Town; Tunica-Biloxi Indian Tribe; and United Keetoowah Band of Cherokee Indians in Oklahoma that this notice has been published.

Dated: February 17, 2015.
Melanie O'Brien,
Acting Manager, National NAGPRA Program.

[FR Doc. 2015-07414 Filed 3-31-15; 8:45 am]

BILLING CODE 4312-50-P